DEPARTMENT OF HOUSING AND URBAN DEVELOPMENT

[Docket No. FR-5900-FA-02]

Announcement of Funding Awards; Indian Community Development Block Grant Program Fiscal Year 2015

AGENCY: Office of Native American Programs, Office of Public and Indian Housing, HUD

ACTION: Announcement of funding awards.

SUMMARY: In accordance with Section 102(a)(4)(C) of the Department of Housing and Urban Development Reform Act of 1989, this announcement notifies the public of decisions made by the Department in two competitions in Fiscal Year 2015 (FY 2015) pursuant to two Notices of Funding Availability for the Indian Community Development Block Grant (ICDBG) program. This announcement contains the consolidated names and addresses of this year's award recipients under both competitions.

FOR FURTHER INFORMATION CONTACT: For questions concerning the awards, contact the Area Office of Native American Programs (ONAP) serving the area in which the project is located. The names and addresses can be found at http://portal.hud.gov/hudportal/HUD?src=/program_offices/public_indian_housing/ih/codetalk/onap/map/nationalmap. Hearing or speech-impaired individuals may access this number via TTY by calling the toll-free Federal Information Relay Service at (800) 877-8339.

SUPPLEMENTARY INFORMATION: The ICDBG program provides grants to Indian tribes and Alaska Native Villages to develop viable Indian and Alaska Native communities, including the creation of decent housing, suitable living environments, and economic opportunities primarily for persons with low and moderate incomes as defined in 24 CFR 1003.4. For FY 2015, Congress established a set aside of funds specifically for the remediation and prevention of mold in tribal housing.

The FY 2015 awards announced in this Notice were selected for funding in competitions posted on HUD's Web site on April 16, 2015, and August 28, 2015, respectively. Applications were scored and selected for funding based on the selection criteria in those notices.

The amount appropriated for ICDBG mold remediation and prevention in FY 2015, was $6,000,000. Combined with $6,400,000 in mold remediation and prevention funds carried over from FY 2014, $12,400,000 made available for mold remediation and prevention in FY 2015.

Congress appropriated $60,000,000 for the ICDBG program in FY 2015. Of the amount appropriated, $3,960,000 was retained to fund non-competitive ICDBG imminent threat grants. Combined with $2,816,810 in funds carried over from FY 2014, the allocations for the Area ONAP geographic jurisdictions for all types of ICDBG-eligible activities were:

Eastern/Woodlands | $4,648,764
Southern Plains | 13,989,642
Northern Plains | 8,842,084
Southwest | 20,912,558
Northwest | 3,188,032
Alaska | 7,275,730
Total | 58,856,810

In accordance with Section 102 (a)(4)(C) of the Department of Housing and Urban Development Reform Act of 1989 (103 Stat.1987, 42 U.S.C. 3545), the Department is publishing the names, addresses, and amounts of the 18 awards made specifically for mold remediation and prevention in Appendix A and the 75 awards made for all types of ICDBG activities in Appendix B to this document.

Dated: April 5, 2016.
Lourdes Castro Ramírez,
Principal Deputy Assistant Secretary for Public and Indian Housing.

Appendix A—Awards for Mold Remediation and Prevention
Name/address of applicant | Amount funded | Activity funded | Number of units
Aroostook Band of Micmac Indians, Honorable Edward Peter Paul, #7 Northern Road, Presque Isle, ME 04769, (207) 764-7765 | $605,000 | HR | 26
Blackfeet Housing Authority, Chancy Kittson, Executive Director, P.O. Box 449, Browning, MT 59417-0449, (406) 338-5031 | 800,000 | HR | 16
Colville Indian Housing Authority, Brook Kristovich, P.O. Box 528, Nespelem, WA 99155, (509) 634-2162 | 486,827 | HR | 180
Cook Inlet Tribal Council, Gloria O'Neill, President/CEO, 3600 San Jeronimo, Anchorage, AK 99508-2869, (907) 793-3401 | 800,000 | HR | 144
Craig Tribal Association, Clinton Cook, Tribal President, P.O. Box 828, Craig, AK 99921-0828, (907) 826-3996 | 553,150 | HR | 13
Keweenaw Bay Indian Community, Honorable Warren C. Swartz Jr., 16429 Beartown Rd., Baraga, MI 49908, (906) 353-6623 | 800,000 | HR | 146
Lac Courte Oreilles Band of Lake Superior Chippewa, Honorable Michael Isham Jr., 13394 W. Trepania Rd., Hayward, WI 54843, (715) 634-8934 | 800,000 | HR | 53
Oglala Sioux (Lakota) Housing Authority, Paul Iron Cloud, CEO, P.O. Box 603, 4 SuAnne Center Dr., Pine Ridge, SD 57770-0603, (605) 867-5161 | 800,000 | HR | 150
Ohkay Owingeh Housing Authority, Tomasita Duran, Executive Director, P.O. Box 1059, Ohkay Owingeh, NM 87566-1059, (505) 852-0189 | 798,787 | HR | 65
Pascua Yaqui Tribe, Peter Yucupicio, Chairperson, 7474 South Camino de Oeste, Tucson, AZ 85757, (520) 883-5000 | 800,000 | HR | 40
San Felipe Pueblo Housing Authority, Isaac Perez, Executive Director, P.O. Box 4222, San Felipe Pueblo, NM 87001-4222, (505) 771-9291 | 394,379 | HR | 15
Spirit Lake Housing Corporation, Deborah LaVallie, Executive Director, P.O. Box 187, Fort Totten, ND 58335-0187, (701) 766-4131 | 800,000 | HR | 20
Tohono O'odham Ki:Ki Association, Chester P. (Pete) Delgado, Executive Director, P.O. Box 790, Sells, AZ 85634-0790, (520) 383-2202 | 800,000 | HR | 10
Tonkawa Tribe, President Russell L. Martin, 1 Rush Buffalo Road, Tonkawa, OK 74653, (580) 628-2561 | 658,858 | HR | 53
Utu Utu Gwaitu Benton Paiute Tribe, Billie Saulque, Chairperson, 25669 Hwy 6, PMB 1, Benton, CA 93512, (760) 933-2321 | 800,000 | HR | 12
White Earth Reservation Housing Authority, Honorable Steven Clark, P.O. Box 418, White Earth, MN 56591, (218) 983-3285 | 600,000 | HR | 21
Yakutat Tlingit Tribe, Victoria Demmert, Tribal President, P.O. Box 418, Yakutat, AK 99689-0418, (907) 780-6868 | 300,000 | HR | 20
Yankton Sioux Tribal Housing Authority, Galicia Drapeau, Executive Director, 410 South Main, Wagner, SD 57380-9663, (605) 384-5907 | 800,000 | HR | 18

Appendix B—Awards for All ICDBG Activities
Name/address of applicant | Amount funded | Activity funded | Project description
Agdaagux Tribe of King Cove, Etta Kuzakin, President, P.O. Box 249, King Cove, AK 99612-0001, (907) 497-2648 | $75,000 | PFC | Renovation of a rehabilitation center.
Akwesasne Housing Authority, Retha Herne, 378 State Rd 37, Hogansburg, NY 13655, (518) 358-9020 | 600,000 | HR | Housing rehabilitation project that will provide solar generated power to the Sunrise Acres housing complex.
Alabama-Coushatta Tribe, JoAnn Battise, Chairman, 571 State Park Road 56, Livingston, TX 77351, (936) 563-1100 | 558,991 | HR | Rehabilitation of 30 homes.
Angoon Community Association, Wally Frank, Sr., President, P.O. Box 328, Angoon, AK 99820-0328, (907) 788-3412 | 600,000 | HR | Remediation of mold on 24 single family housing units.
Aroostook Band of Micmac Indians, Honorable Edward Peter Paul, #7 Northern Road, Presque Isle, ME 04769, (207) 764-7765 | 600,000 | HC | Construction of a four unit elderly housing complex.
Beaver Village, Rhonda Pitka, First Chief, P.O. Box 24029, Beaver, AK 99724-4029, (907) 628-6126 | 527,595 | HC | Construction for one two-bedroom duplex (2 units).
Blackfeet Housing Authority, Chancy Kittson, Executive Director, P.O. Box 449, Browning, MT 59417-0449, (406) 338-5031 | 1,100,000 | HR | Rehabilitation of 29 conveyed mutual help housing units.
Cherokee Nation, Bill John Baker, Principal Chief, P.O. Box 948, Tahlequah, OK 74465, (918) 456-0671 | 800,000 | HR | Rehabilitation of approximately 40 housing units for the elderly and elderly-handicapped.
Chickasaw Nation, Bill Anoatubby, Governor, P.O. Box 1548, Ada, OK 74821, (580) 436-2603 | 800,000 | PF | New construction of a Head Start Center.
Choctaw Nation, Gary Batton, Chief, P.O. Drawer 1210, Durant, OK 74702, (580) 924-8280 | 800,000 | PFI | Infrastructure on three projects; constructing roads and installation of water and sewer.
Circle Native Community (Tanana Chiefs Conference), Victor Joseph, President, 122 First Avenue, Suite 600, Fairbanks, AK 99701-4871, (907) 452-8251 | 600,000 | PFC | Construction of a new energy efficient health clinic.
Citizen Potawatomi Nation, John A. Barrett, Chairman, 1601 South Gordon Cooper Drive, Shawnee, OK 74801, (405) 275-3121 | 800,000 | MI | Microenterprise program to provide 10 Native American-owned businesses to create 20 jobs and retain 20 jobs.
Cocopah Indian Housing and Development, Raymond Robles, Executive Director, 10488 Steamboat Street, Somerton, AZ 85350, (928) 627-8863 | 374,002 | HC and HR | New construction of one home and rehabilitation of two homes.
Coeur d'Alene Tribal Housing Authority, Rosanna Allen, P.O. Box 267, Plummer, ID 83851, (208) 686-1927 | 500,000 | HC | Construction of a six unit apartment building for low income residents.
Colorado River Indian Tribe, Dennis Patch, Chairman, 26600 Mohave Road, Parker, AZ 85344, (928) 669-9211 | 825,000 | PFS | Construction of a Fire Safety Substation.
Comanche Nation Housing Authority, Nora Sovo, Deputy Director, P.O. Box 1671, Lawton, OK 73502, (580) 357-4956 | 800,000 | HR | Rehabilitation of 26 single-family homes on scattered sites.
Confederated Tribes of the Grand Ronde Community of Oregon, Kim Rogers, 9615 Grand Ronde Road, Grand Ronde, OR 97347, (503) 879-2250 | 208,032 | PFS | Design and construction of a preschool addition.
Craig Tribal Association, Clinton Cook, Tribal President, P.O. Box 828, Craig, AK 99921-0828, (907) 826-3996 | 600,000 | PFI | Infrastructure for water, sewer and utility lines for a new housing subdivision for seven lots.
Eastern Shoshone Housing Authority, Joseph E. Sazue, Jr., Executive Director, P.O. Box 1250, Fort Washakie, WY 82514-1250, (307) 332-5832 | 842,084 | HR | To conduct moderate interior replacements and extensive exterior rehabilitation to 116 housing units.
Elk Valley Rancheria, Dale Miller, Chairperson, 2332 Howland Hill Road, Cresent City, CA 95531, (707) 994-4680 | 605,000 | PFS | Rehabilitation of a fire station and purchase of fire equipment.
Fort Hall Housing Authority, Lorraine Shay, 161 Wardance Circle, Pocatello, ID 83202, (208) 237-1174 | 480,000 | HR | Rehabilitation of a 32 year old 19-unit housing complex for elderly and handicapped tribal members.
Fort Sill Apache Tribe, Jeff Haozous, Chairman, 43187 US Highway 281, Apache, OK 73006, (580) 588-2298 | 800,000 | ED | Construction of a convenience store and gas station.
Hannahville Indian Community, Kenneth Mishigaud, N14911 Hannahville B1 Road, Wilson, MI 49896, (906) 723-2625 | 600,000 | PFI | Expansion of a wastewater facility.
Ho Chunk Nation (HHCDA), Neil Whitegill, 1102 E. Monowau St., Tomah, WI 54660, (608) 374-1245 | 600,000 | PF | Development of a new Head Start facility.
Houlton Band of Maliseet, Brenda Commander, 88 Bell Road, Houlton, ME 04730, (207) 532-4273 | 600,000 | PFI | Renovation and construction of a daycare center.
Hughes Village, Wilmer Beetus, First Chief, P.O. Box 45029, Hughes, AK 99745, (907) 889-2239 | 198,750 | PFC | Rehabilitation of an old two-story clinic.
Iowa Tribe of Oklahoma, Bobby Walkup, Chairman, 335588 E. 750 Rd, Perkins, OK 74059, (405) 547-2402 | 250,857 | PFI | Construction of a new well and water storage system.
Isleta Pueblo Housing Authority, Allen Zuni, Executive Director, P.O. Box 760, Isleta, NM 87022, (505) 869-4153 | 825,000 | HC | Construction of seven single-family homes on scattered sites.
Jicarrilla Apache Housing Authority, Lisa Manwell, Executive Director, P.O. Box 486, Dulce, NM 87528, (575) 759-3415 | 825,000 | HC | Construction of six single family homes.
Kalispel Tribe, Sev Jones, 1981 N. Leclerc Rd., Cusick, WA 99180, (509) 447-7230 | 500,000 | HC | Construction of two, three bedroom single-family homes.
Kickapoo Traditional Tribe of Texas, Estavio Elizondo, Tribal Chairman, 2212 Rosita Valley Rd., Eagle Pass, TX 78852, (830) 773-1209 | 800,000 | PFC | Construction of a daycare and head start center and eventually an elementary and secondary school will be added.
Knik Tribe, Mike Tucker, President, P.O. Box 871565, Wasilla, AK 99645-9538, (907) 373-7960 | 600,000 | HA | Acquisition of three new standard housing duplexes, containing six units.
Lac du Flambeau Band of Lake Superior Chippewa, Butch St. Germaine, 418 Little Pines Road, Lac du Flambeau, WI 54538, (715) 588-3803 | 600,000 | PF | Construction of a Cultural Center.
Lummi Nation Housing Authority, Diana Phair, 2828 Kwina Road, Bellingham, WA 98226, (360) 312-8407 | 500,000 | HR | Rehabilitation of approximately 50 housing units at three separate projects.
Manokotak Village, Tessa Nickerson, President, P.O. Box 169, Manokotak, AK 99576-0169, (907) 289-2067 | 87,250 | HR | Rehabilitation of 11 low-income multi-family units.
Modoc Tribe, Bill G. Follis, Chief, 418 G SE Street, Miami, OK 74354, (918) 542-1190 | 800,000 | PFI | Construction of an elevated storage tank, water and wastewater lines, access roads and electric utility lines.
Muckleshoot Housing Authority, Ama Tuato'o, 38037 158th Ave. SE, Auburn, WA 98092, (253) 876-2862 | 500,000 | HR | Rehabilitation of 10 housing units.
Native Village of Belkofski, Delores Kochuten, President, P.O. Box 57, King Cove, AK 99612-0001, (907) 497-3122 | 75,000 | PFC | Rehabilitation of an existing underutilized Senior Center.
Native Village of Chenega, Shelly Wade, Executive Director, P.O. Box 8079, Chenega Bay, AK 99574-8079, (907) 242-5326 | 600,000 | PFC | Construction of a new community service center.
Native Village of Minto, Carla Dick, First Chief, P.O. Box 26, Minto, AK 99758, (907) 798-7112 | 600,000 | HC | Construction of a one-bedroom four-plex (4 units) for senior households.
Native Village of Tanana, Curtis Sommer, Tribal Chairman, P.O. Box 77130, Tanana, AK 99777, (907) 366-7170 | 600,000 | HC | Construction of two two-bedroom duplexes (four units).
Navajo Nation, Russell Begaye, President, P.O. Box 7440, Window Rock, AZ 86515, (928) 871-6352 | 4,121,557 | PFI | Extension of power lines and waterlines to six regional Chapters.
New Koliganek Village Council, Herman Nelson, President, P.O. Box 5057, Koliganek, AK 99576-5057, (907) 596-3434 | 600,000 | HR | Rehabilitation of approximately 18 single family homes.
Nondalton Village, William Evanoff, President, P.O. Box 49, Nondalton, AK 99640-0049, (907) 294-2257 | 312,135 | HR | Rehabilitation of four single-family homes.
Northern Cheyenne Tribal Housing Authority, Lafe Haugen, Executive Director, P.O. Box 327, Lame Deer, MT 59043-0327, (406) 477-6419 | 900,000 | HR | Rehabilitation of 27 homes.
Northern Circle Housing Authority, Darlene Tooley, Executive Director, 694 Pinoleville Drive, Ukiah, CA 95482, (707) 468-1336 | 605,000 | HR | Rehabilitation of 21 homes.
Northern Ponca Housing Authority, Joel (Joey) Nathan, Executive Director, 1501 Michigan Avenue, Norfolk, NE 68701-5602, (402) 379-8224 | 1,100,000 | HR | Rehabilitation of 93 rental housing units.
Oglala Sioux (Lakota) Housing Authority, Paul Iron Cloud, CEO, P.O. Box 603, 4 SuAnne Center Dr., Pine Ridge, SD 57770-0603, (605) 867-5161 | 1,100,000 | HR | Rehabilitation of 61 exteriors, 139 roofs and 21 units for meth remediation.
Organized Village of Grayling, Ivan Demientieff, First Chief, P.O. Box 49, Grayling, AK 99590-0049, (907) 453-5116 | 600,000 | HC | Construction of one three-bedroom and one four-bedroom single family units.
Organized Village of Kake, Casimero Aceveda, Jr., President, P.O. Box 316, Kake, AK 99830-0316, (907) 780-3158 | 600,000 | HR | Mold remediation and prevention in approximately 20 homes.
Osage Nation, Geoffrey Standing Bear, Principal Chief, P.O. Box 779, Pawhuska, OK 74056, (918) 287-5434 | 800,000 | PF | Construction of a new fitness and wellness center.
Otoe-Missouria Tribe, John R. Shotton, Tribal Chairman, 8151 Highway 177, Red Rock, OK 74651, (580) 723-4466 | 799,998 | PFC | New Public-Facilities Wellness Center.
Ottawa Tribe of Oklahoma, Ethel E. Cook, Chief, P.O. Box 110, Miami, OK 74355, (918) 540-1536 | 800,000 | HR | Weatherization energy efficiency improvements on 24 homes.
Pawnee Nation, W. Bruce Pratt, Interim President, P.O. Box 470, Pawnee, OK 74058, (918) 762-3621 | 800,000 | PF | Construction of a new health center.
Peoria Tribe Housing Authority, Jason Dollarhide, Executive Director, Peoria Tribe of Indians HA of Oklahoma, 3606 Sencay Avenue, Miami, OK 74354, (918) 542-1873 | 800,000 | HR and PF | Renovation of housing units—storm shelters, upgraded Wi-Fi, playgrounds for youth exercise.
Pinoleville Rancheria of Pomo Indians, Leona Williams, Chairperson, 500-B Pinoleville Drive, Ukiah, CA 95482, (707) 463-1454 | 605,000 | PFC | Construction of a youth wellness and education center.
Prairie Band Potawatomi Nation, Liana Onnen, Tribal Chairperson,16281 Q Road, Mayetta, KS 66509, (785) 966-4007 | 799,632 | PF | Construction of a Language and Cultural Learning Center.
Pueblo of Acoma Housing Authority, Floyd Tortalita, Executive Director, P.O. Box 620, Acoma Pueblo, NM 87034, (505) 552-7528 | 825,000 | HC | Lease of four new homes for qualified buyers living in overcrowded conditions.
Quapaw Tribe of Oklahoma, John Berrey, Chairman, P.O. Box 765, Quapaw, OK 74363, (918) 542-1853 | 800,000 | ED | Construction of a cattle processing plant.
Red Cliff Band of Lake Superior Chippewa, Bryan Bainbridge, 88385 Pike Road, Bayfield, WI 54814, (715) 779-3734 | 448,764 | HR | Installation of 1,300 linear feet of potable water line and 1,150 linear feet of sewer line to support a twenty-four housing units project.
Robinson Rancheria, Eddie Crandall, Chairman, P.O. Box 428, Nice, CA 95464, (707) 275-0527 | 605,000 | PFI | Infrastructure on 12 sites for single-family homes.
Salish-Kootenai Housing Authority, Jason Adams, Executive Director, P.O. Box 38, Pablo, MT 59855-0038, (406) 675-4491 | 1,100,000 | HR and PFI | Rehabilitation of 20 homes and a new well for connection to 39 home sites.
Seminole Nation, Leonard Harjo, Principal Chief, P.O. Box 1498, Wewoka, OK 74884, (405) 257-6287 | 800,000 | PF | Construction of the Seminole Nation Veterans Affairs Department.
Sokaogon Chippewa Community, Chris McGeshick, 3051 Sand Lake Road, Crandon, WI 54520, (715) 478-7500 | 600,000 | HR | Installation of solar facilities on 56 housing units and a tribal elder apartment building.
Spirit Lake Tribe, Myra Pearson, Chairperson, P.O. Box 359, Fort Totten, ND 58335-0359, (701) 766-4221 | 900,000 | HR | Rehabilitation of 20 owner-occupied housing units on scattered sites.
Tejon Tribe, Kathryn Montes Morgan, Chairperson, 1731 Hasti Acres Ste 108, Bakersfeild, CA 93309, (661) 834-8566 | 605,000 | PFC | Conversion of a public building into a new community center.
Tohono O'odham Ki:Ki Association, Chester P. (Pete) Delgado, Executive Director, P.O. Box 790, Sells, AZ 85634-0790, (520) 383-2202 | 2,750,000 | HC | Construction of 15 new single family homes.
Tolowa Dee-ni Nation, Loren Bommelyn, Chairperson, 140 Rowdy Creek Road, Smith River, CA 95567, (707) 487-9255 | 576,999 | PFI | To complete the Prince Island Court Wastewater Infrastructure.
Utah Paiute Housing Authority, James Emery, Executive Director, 565 North, 100 East, Cedar City, UT 84721-6156, (435) 586-1122 | 900,000 | HR | Rehabilitation of 16 housing units, replacement of roofs on 20 units and installation of security fencing on 10 units.
Ute Mountain Ute Housing Authority, Joann Lemmon, Executive Director, P.O. Box EE, Towaoc, CO 81334-0088, (970) 565-4283 | 900,000 | PFI | Construct water and sewer infrastructure and roads in preparation of 30 homes in a new housing development.
Utu Utu Gwaitu Benton Paiute Tribe, Billie Soulque, Chairperson, 25669 Hwy 6, PMB 1, Benton, CA 93512, (760) 933-2321 | 605,000 | HR | Rehabilitation of 12 substandard single-family housing units.
Warm Springs Housing Authority, Scott Moses, P.O. Box 1167, Warm Springs, OR 97761, (541) 553-3250 | 500,000 | HR | Rehabilitation of seven senior rental apartments and ten low-rent duplexes.
Wiyot Tribe, Ted Hernandez, Chairperson, 1000 Wiyot Drive, Loleta, CA 95551, (707) 733-5055 | 605,000 | HC | Construction of four new housing units.
Wyandotte Nation, Billy Friend, Chief, 64700 E Highway 60, Wyandotte, OK 74370, (918) 678-2297 | 380,164 | HR | Rehabilitation of 19 homes.
Zuni Housing Authority, Michael Chavez, Executive Director, P.O. Box 710, Zuni Pueblo, NM 87024, (505) 782-4564 | 2,200,000 | HR | Rehabilitation of 35 owner-occupied housing units on scattered sites.

[FR Doc. 2016-08564 Filed 4-13-16; 8:45 am]

BILLING CODE 4210-67-P